DEPARTMENT OF TRANSPORTATION

Surface Transportation Board

[STB Finance Docket No. 34076]

Los Angeles to Pasadena Blue Line Construction Authority d/b/a Los Angeles to Pasadena Metro Construction Authority—Acquisition Exemption—Los Angeles County Metropolitan Transportation Authority

Los Angeles to Pasadena Blue Line Construction Authority d/b/a Los Angeles to Pasadena Metro Construction Authority (Authority),¹ a noncarrier, has filed a notice of exemption under 49 CFR 1150.31 to acquire a rail line from the Los Angeles County Metropolitan Transportation Authority (LACMTA).² The line consists of 20.0 miles of rail line between milepost 104.2 and milepost 124.2 on the Pasadena Subdivision of The Burlington Northern and Santa Fe Railway Company (BNSF), in Los Angeles County, CA. Authority certifies that its projected revenues as a result of this transaction will not exceed those that would qualify it as a Class III rail carrier.

¹ Authority is a public agency existing under the authority of the laws of the State of California.

² LACMTA is the successor in interest to the former Los Angeles County Transportation Commission.

Authority indicates that it does not intend to conduct freight or commuter rail operations on the rail line,³ that those operations will be conducted or otherwise provided by third parties,⁴ and that all rights and obligations related to both freight and passenger service were reserved to LACMTA.

³ Authority simultaneously filed a motion to dismiss this notice of exemption, arguing that it has purchased only physical assets associated with the line. The motion will be handled in a separate decision.

⁴ BNSF will conduct the freight operations and the Southern California Regional Rail Authority will conduct the commuter operations.

Authority states in its notice that the transaction was consummated on September 1, 1999, when it acquired the line from LACMTA. However, Authority did not seek regulatory authorization from the Board until the filing of this notice on June 24, 2003. Thus, the exemption became effective on July 1, 2003 (7 days after the notice was filed).

If the notice contains false or misleading information, the exemption is void ab initio. Petitions to revoke the exemption under 49 U.S.C. 10502(d) may be filed at any time. The filing of a petition to revoke will not automatically stay the transaction.

An original and 10 copies of all pleadings, referring to STB Finance Docket No. 34076, must be filed with the Surface Transportation Board, 1925 K Street, NW., Washington, DC 20423-0001. In addition, one copy of each pleading must be served on Charles A. Spitulnik, McLeod, Watkinson & Miller, One Massachusetts Avenue, NW., Suite 800, Washington, DC 20001.

Board decisions and notices are available on our Web site at http://www.stb.dot.gov.

Decided: July 15, 2003.
By the Board, David M. Konschnik, Director, Office of Proceedings.
Vernon A. Williams,
Secretary.

[FR Doc. 03-18578 Filed 7-21-03; 8:45 am]

BILLING CODE 4915-00-P